NUCLEAR REGULATORY COMMISSION

[NRC-2011-0091]

Office of New Reactors; Notice of Availability of the Final Staff Guidance Section 1.0, Revision 2 on Introduction and Interfaces

AGENCY: Nuclear Regulatory Commission (NRC).

ACTION: Notice of Availability.

SUMMARY: The NRC is issuing its final Revision 2 to NUREG-0800, “Standard Review Plan for the Review of Safety Analysis Reports for Nuclear Power Plants: LWR Edition,” Section 1.0, Revision 2 on “Introduction and Interfaces” (Agencywide Documents Access and Management System (ADAMS) Accession No. ML112730393).

The NRC staff issues revisions to SRP sections to facilitate timely implementation of the current staff guidance and to facilitate reviews to amendments to licenses for operating reactors or for activities associated with review of applications for early site permits and combined licenses for the Office of New Reactors. The NRC will incorporate similar post-COL commitment guidance developed specifically for COL applicants and included in ISG-015 in the next revision of RG 1.206, “Combined License Applications for Nuclear Power Plants (LWR Edition),” and related guidance documents.

Disposition: On April 14, 2011, the NRC staff issued the proposed Revision 2 on SRP Section 1.0 on “Introduction and Interfaces,” ADAMS Accession No. ML110110573. There were no comments received on the proposed revision. Therefore, the guidance is issued as final without changes to the proposed notification.

Congressional Act Review: In accordance with the Congressional Review Act, the NRC has determined that this action is not a major rule and has verified this determination with the Office of Information and Regulatory Affairs of the Office of Management and Budget.

ADDRESSES: The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-(800) 397-4209, (301) 415-4737, or by email at pdr.resource@nrc.gov.

FOR FURTHER INFORMATION CONTACT: Ms. Amy E. Cubbage, Chief, Policy Branch, Division of Advanced Reactors and Rulemaking, Office of New Reactors, U.S. Nuclear Regulatory Commission, Washington, DC, 20555-0001; telephone at (301) 415-2875 or email at amy.cubbage@nrc.gov.

SUPPLEMENTARY INFORMATION: The NRC posts its issued staff guidance on the NRC external Web page (http://www.nrc.gov/reading-rm/doc-collections/isg/).

Dated at Rockville, Maryland, this 1st day of December 2011.
For the Nuclear Regulatory Commission.
Amy E. Cubbage,
Chief, Policy Branch, Division of Advanced Reactors and Rulemaking, Office of New Reactors.

[FR Doc. 2011-31639 Filed 12-8-11; 8:45 am]

BILLING CODE 7590-01-P